DEPARTMENT OF HOMELAND SECURITY

Federal Emergency Management Agency

[Docket ID FEMA-2023-0002; Internal Agency Docket No. FEMA-B-2357]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before October 30, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2357, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Essex County, Massachusetts (All Jurisdictions)
Project: 15-01-0633S Preliminary Date: May 26, 2023
City of Beverly | City Hall, 191 Cabot Street, Beverly, MA 01915.
City of Gloucester | City Hall, 9 Dale Avenue, Gloucester, MA 01930.
City of Haverhill | City Hall, 4 Summer Street, Haverhill, MA 01830.
City of Lynn | City Hall, 3 City Hall Square, Lynn, MA 01901.
City of Newburyport | City Hall, 60 Pleasant Street, Newburyport, MA 01950.
City of Peabody | City Hall, 24 Lowell Street, Peabody, MA 01960.
City of Salem | City Hall, 93 Washington Street, Salem, MA 01970.
Town of Andover | Town Hall, 36 Bartlet Street, Andover, MA 01810.
Town of Boxford | Town Hall, 7A Spofford Road, Boxford, MA 01921.
Town of Danvers | Town Hall, 1 Sylvan Street, Danvers, MA 01923.
Town of Essex | Town Hall, 30 Martin Street, Essex, MA 01929.
Town of Georgetown | Town Hall, 1 Library Street, Georgetown, MA 01833.
Town of Groveland | Town Hall, 183 Main Street, Groveland, MA 01834.
Town of Hamilton | Town Hall, 577 Bay Road, Hamilton, MA 01936.
Town of Ipswich | Town Hall, 25 Green Street, Ipswich, MA 01938.
Town of Lynnfield | Town Hall, 55 Summer Street, Lynnfield, MA 01940.
Town of Manchester-by-the-Sea | Town Hall, 10 Central Street, Manchester-by-the-Sea, MA 01944.
Town of Marblehead | Abbot Hall, 188 Washington Street, Marblehead, MA 01945.
Town of Merrimac | Town Hall, 4 School Street, Merrimac, MA 01860.
Town of Middleton | Town Hall, 48 South Main Street, Middleton, MA 01949.
Town of Newbury | Newbury Municipal Offices, 12 Kent Way, Byfield, MA 01922.
Town of North Andover | Town Hall, 120 Main Street, North Andover, MA 01845.
Town of Rockport | Town Hall, 34 Broadway, Rockport, MA 01966.
Town of Rowley | Town Hall, 139 Main Street, Rowley, MA 01969.
Town of Saugus | Town Hall, 298 Central Street, Saugus, MA 01906.
Town of Swampscott | Town Hall, 22 Monument Avenue, Swampscott, MA 01907.
Town of Topsfield | Town Offices, 8 West Common Street, Topsfield, MA 01983.
Town of Wenham | Town Hall, 138 Main Street, Wenham, MA 01984.
Town of West Newbury | Town Hall, 381 Main Street, West Newbury, MA 01985.
Middlesex County, Massachusetts (All Jurisdictions)
Project: 15-01-0633S Preliminary Date: June 08, 2023
City of Cambridge | City Hall, 795 Massachusetts Avenue, Cambridge, MA 02139.
City of Everett | City Hall, 484 Broadway, Everett, MA 02149.
City of Lowell | City Hall, 375 Merrimack Street, Lowell, MA 01852.
City of Malden | City Hall, 200 Pleasant Street, Malden, MA 02148.
City of Medford | City Hall, 85 George P. Hassett Drive, Medford, MA 02155.
City of Melrose | City Hall, 562 Main Street, Melrose, MA 02176.
City of Newton | City Hall, 1000 Commonwealth Avenue, Newton, MA 02459.
City of Somerville | City Hall, 93 Highland Avenue, Somerville, MA 02143.
City of Waltham | City Hall, 610 Main Street, Waltham, MA 02452.
City of Woburn | City Hall, 10 Common Street, Woburn, MA 01801.
Town of Arlington | Town Hall, 730 Massachusetts Avenue, Arlington, MA 02476.
Town of Ashby | Town Hall, 895 Main Street, Ashby, MA 01431.
Town of Ashland | Town Hall, 101 Main Street, Ashland, MA 01721.
Town of Ayer | Town Hall, 1 Main Street, Ayer, MA 01432.
Town of Bedford | Town Hall, 10 Mudge Way, Bedford, MA 01730.
Town of Belmont | Town Hall, 455 Concord Avenue, Belmont, MA 02478.
Town of Billerica | Town Hall, 365 Boston Road, Billerica, MA 01821.
Town of Boxborough | Town Hall, 29 Middle Road, Boxborough, MA 01719.
Town of Burlington | Town Hall, 29 Center Street, Burlington, MA 01803.
Town of Chelmsford | Town Hall, 50 Billerica Road, Chelmsford, MA 01824.
Town of Concord | Town House, 22 Monument Square, Concord, MA 01742.
Town of Dracut | Town Hall, 62 Arlington Street, Dracut, MA 01826.
Town of Dunstable | Town Hall, 511 Main Street, Dunstable, MA 01827.
Town of Groton | Town Hall, 173 Main Street, Groton, MA 01450.
Town of Holliston | Town Hall, 703 Washington Street, Holliston, MA 01746.
Town of Hopkinton | Town Hall, 18 Main Street, Hopkinton, MA 01748.
Town of Lexington | Town Offices, 1625 Massachusetts Avenue, Lexington, MA 02420.
Town of Lincoln | Town Hall, 16 Lincoln Road, Lincoln, MA 01773.
Town of Littleton | Town Hall, 37 Shattuck Street, Littleton, MA 01460.
Town of Natick | Town Hall, 13 East Central Street, Natick, MA 01760.
Town of North Reading | Town Hall, 235 North Street, North Reading, MA 01864.
Town of Pepperell | Town Hall, 1 Main Street, Pepperell, MA 01463.
Town of Reading | Town Hall, 16 Lowell Street, Reading, MA 01867.
Town of Sherborn | Town Hall, 19 Washington Street, Sherborn, MA 01770.
Town of Shirley | Town Hall, 7 Keady Way, Shirley, MA 01464.
Town of Stoneham | Town Hall, 35 Central Street, Stoneham, MA 02180.
Town of Tewksbury | Town Hall, 1009 Main Street, Tewksbury, MA 01876.
Town of Townsend | Town Hall, 272 Main Street, Townsend, MA 01469.
Town of Tyngsborough | Town Hall, 25 Bryants Lane, Tyngsborough, MA 01879.
Town of Wakefield | Town Hall, 1 Lafayette Street, Wakefield, MA 01880.
Town of Watertown | Town Hall, 149 Main Street, Watertown, MA 02472.
Town of Wayland | Town Hall, 41 Cochituate Road, Wayland, MA 01778.
Town of Westford | Town Hall, 55 Main Street, Westford, MA 01886.
Town of Weston | Town Hall, 11 Town House Road, Weston, MA 02493.
Town of Wilmington | Town Hall, 121 Glen Road, Wilmington, MA 01887.
Town of Winchester | Town Hall, 71 Mt. Vernon Street, Winchester, MA 01890.
Norfolk County, Massachusetts (All Jurisdictions)
Project: 15-01-0633S Preliminary Date: April 07, 2023
City of Quincy | City Hall, 1305 Hancock Street, Quincy, MA 02169.
Town of Avon | Town Hall, 65 East Main Street, Avon, MA 02322.
Town of Bellingham | Municipal Center, 10 Mechanic Street, Bellingham, MA 02019.
Town of Braintree | Town Hall, 1 John F. Kennedy Memorial Drive, Braintree, MA 02184.
Town of Brookline | Town Hall, 333 Washington Street, Brookline, MA 02445.
Town of Canton | Town Hall, 801 Washington Street, Canton, MA 02021.
Town of Cohasset | Town Hall, 41 Highland Avenue, Cohasset, MA 02025.
Town of Dedham | Town Hall, 450 Washington Street, Dedham, MA 02026.
Town of Dover | Town House, 5 Springdale Avenue, Dover, MA 02030.
Town of Foxborough | Town Hall, 40 South Street, Foxborough, MA 02035.
Town of Franklin | Town Hall, 355 East Central Street, Franklin, MA 02038.
Town of Holbrook | Town Hall, 50 North Franklin Street, Holbrook, MA 02343.
Town of Medfield | Town House, 459 Main Street, Medfield, MA 02052.
Town of Medway | Town Hall, 155 Village Street, Medway, MA 02053.
Town of Millis | Veterans Memorial Building, 900 Main Street, Millis, MA 02054.
Town of Milton | Town Office Building, 525 Canton Avenue, Milton, MA 02186.
Town of Needham | Town Hall, 1471 Highland Avenue, Needham, MA 02492.
Town of Norfolk | Town Hall, 1 Liberty Lane, Norfolk, MA 02056.
Town of Norwood | Town Hall, 566 Washington Street, Norwood, MA 02062.
Town of Plainville | Town Hall, 142 South Street, Plainville, MA 02762.
Town of Randolph | Town Hall, 41 South Main Street, Randolph, MA 02368.
Town of Sharon | Town Office Building, 90 South Main Street, Sharon, MA 02067.
Town of Stoughton | Town Hall, 10 Pearl Street, Stoughton, MA 02072.
Town of Walpole | Town Hall, 135 School Street, Walpole, MA 02081.
Town of Wellesley | Town Hall, 888 Worcester Street, Wellesley, MA 02482.
Town of Westwood | Town Hall, 580 High Street, Westwood, MA 02090.
Town of Weymouth | Town Hall, 75 Middle Street, Weymouth, MA 02189.
Town of Wrentham | Town Hall, 79 South Street, Wrentham, MA 02093.
Worcester County, Massachusetts (All Jurisdictions)
Project: 16-01-0276S Preliminary Date: May 05, 2023
City of Fitchburg | City Hall, 718 Main Street, Fitchburg, MA 01420.
City of Gardner | City Hall, 95 Pleasant Street, Gardner, MA 01440.
City of Leominster | City Hall, 25 West Street, Leominster, MA 01453.
City of Worcester | City Hall, 455 Main Street, Worcester, MA 01608.
Town of Ashburnham | Town Hall, 32 Main Street, Ashburnham, MA 01430.
Town of Berlin | Town Offices, 23 Linden Street, Berlin, MA 01503.
Town of Bolton | Town Hall, 663 Main Street, Bolton, MA 01740.
Town of Boylston | Town Hall, 221 Main Street, Boylston, MA 01505.
Town of Clinton | Town Hall, 242 Church Street, Clinton, MA 01510.
Town of Harvard | Town Hall, 13 Ayer Road, Harvard, MA 01451.
Town of Holden | Starbard Building, 1204 Main Street, Holden, MA 01520.
Town of Hopedale | Town Office, 78 Hopedale Street, Hopedale, MA 01747.
Town of Hubbardston | Town Hall, 7 Main Street, Hubbardston, MA 01452.
Town of Lancaster | Prescott Building, 701 Main Street, Lancaster, MA 01523.
Town of Lunenburg | Town Hall, 17 Main Street, Lunenburg, MA 01462.
Town of Mendon | Town Hall, 20 Main Street, Mendon, MA 01756.
Town of Milford | Town Hall, 52 Main Street, Milford, MA 01757.
Town of Paxton | Town Hall, 697 Pleasant Street, Paxton, MA 01612.
Town of Princeton | Town Hall, 6 Town Hall Drive, Princeton, MA 01541.
Town of Rutland | Town Hall, 250 Main Street, Rutland, MA 01543.
Town of Sterling | Butterick Municipal Building, 1 Park Street, Sterling, MA 01564.
Town of West Boylston | Town Hall, 140 Worcester Street, West Boylston, MA 01583.
Town of Westminster | Town Hall, 11 South Street, Westminster, MA 01473.

[FR Doc. 2023-16142 Filed 7-28-23; 8:45 am]

BILLING CODE 9110-12-P